ENVIRONMENTAL PROTECTION AGENCY

40 CFR Part 52

[R09-OAR-2010-0718; FRL-9233-1]

Determinations of Attainment by the Applicable Attainment Date for the Hayden, Nogales, Paul Spur/Douglas PM10 Nonattainment Areas, Arizona; Withdrawal of Direct Final Rule

AGENCY: Environmental Protection Agency (EPA).

ACTION: Withdrawal of direct final rule.

SUMMARY: Due to the receipt of an adverse comment, EPA is withdrawing the November 2, 2010 (75 FR 67220), direct final rule determining that the Hayden, Nogales, and Paul Spur/Douglas areas in Arizona had attained the national ambient air quality standard (NAAQS) for particulate matter with an aerodynamic diameter of less than or equal to ten microns by the applicable attainment date. On the basis of this determination, EPA concluded that these three “moderate” nonattainment areas were not subject to reclassification. In the direct final rule, EPA stated that if adverse comments were submitted by December 2, 2010, the rule would be withdrawn and not take effect. On November 3, 2010, EPA received a comment. EPA believes this comment is adverse and, therefore, EPA is withdrawing the direct final rule. EPA will address the comment in a subsequent final action based upon the proposed action also published on November 2, 2010 (75 FR 67303). EPA will not institute a second comment period on this action.

DATES: The direct final rule published at 75 FR 67220 on November 2, 2010, is withdrawn as of November 29, 2010.

FOR FURTHER INFORMATION CONTACT: Wienke Tax, Air Planning Office, Air Division (AIR-2), Environmental Protection Agency, Region 9, 75 Hawthorne Street, San Francisco, CA 94105, (415) 947-4192, tax.wienke@epa.gov.

List of Subjects in 40 CFR Part 52

Environmental protection, Air pollution control, Incorporation by reference, National Parks, Particulate matter, Wilderness Areas.

Authority: 42 U.S.C. 7401 et seq.

Dated: November 19, 2010.
Keith Takata,
Acting Regional Administrator, Region IX.

[FR Doc. 2010-29937 Filed 11-26-10; 8:45 am]

BILLING CODE 6560-50-P